DEPARTMENT OF HOMELAND SECURITY

Coast Guard

[Docket No. USCG-2024-0284]

National Merchant Mariner Medical Advisory Committee; Vacancies

AGENCY: U.S. Coast Guard, Department of Homeland Security.

ACTION: Notice; request for applications.

SUMMARY: The U.S. Coast Guard is accepting applications to fill twelve (12) vacancies on the National Merchant Mariner Medical Advisory Committee (Committee). This Committee advises, consults with, and makes recommendations to the Secretary of the Department of Homeland Security through the Commandant of the United States Coast Guard on matters relating to medical certification determinations for the issuance of licenses, certification of registry, and merchant mariners' documents with respect to merchant mariners; medical standards and guidelines for the physical qualifications of operators of commercial vessels; medical examiner education; and medical research.

DATES: Completed applications must reach the U.S. Coast Guard on or before September 4, 2024.

ADDRESSES: Applications must include (a) a cover letter expressing interest in an appointment to the National Merchant Mariner Medical Advisory Committee, (b) a resume detailing the applicant's relevant experience and qualifications for the position applied for (including the mariner reference number for professional mariners, and licensure, certification, or training information for health-care professionals), and (c) a brief biography. Applications should be submitted via email with subject line “Application for NMEDMAC” to pamela.j.moore@uscg.mil.

FOR FURTHER INFORMATION CONTACT: Ms. Pamela Moore, Alternate Designated Federal Officer of the National Merchant Mariner Medical Advisory Committee; telephone 202-372-1361 or email at pamela.j.moore@uscg.mil.

SUPPLEMENTARY INFORMATION: The National Merchant Mariner Medical Advisory Committee is a Federal advisory committee. The Committee was established by section 601 of the Frank LoBiondo Coast Guard Authorization Act of 2018 (Pub. L. 115-282, 132 Stat. 4192), and is codified in 46 U.S.C. 15104. The Committee operates under the provisions of the Federal Advisory Committee Act and 46 U.S.C. 15109.

The Committee is required to meet at least once a year in accordance with 46 U.S.C. 15109(a). We expect the Committee will hold meetings at least twice a year, at locations across the country selected by the U.S. Coast Guard.

Under provisions in 46 U.S.C. 15109(f)(6), if you are appointed as a member of the Committee, your membership term will expire on December 31st of the third full year after the effective date of your appointment. Under provisions in 46 U.S.C. 15109(f)(4) the Secretary of Homeland Security may require an individual to have passed an appropriate security background examination before appointment to the Committee.

All members serve at their own expense and receive no salary or other compensation from the Federal Government. The only compensation the members may receive is for travel expenses, including per diem in lieu of subsistence, actual reasonable expenses, or both, incurred in the performance of their direct duties for the Committee in accordance with Federal Travel Regulations. If you are appointed as a member of the Committee, you will be required to sign a Non-Disclosure Agreement and a Gratuitous Service Agreement.

In this solicitation for Committee members, we will consider applications for twelve (12) positions:

• Eight positions for health-care professionals with particular expertise, knowledge, and experience regarding the medical examinations of merchant mariners or occupational medicine; and

• Four positions for professional mariners with particular expertise, knowledge, and experience in occupational requirements for mariners.

Applicants for the Committee should document their particular expertise, knowledge, and experience on matters relating to (1) medical certification determinations for the issuance of licenses, certification of registry, and merchant mariners' documents with respect to United States merchant mariners; (2) medical standards and guidelines for the physical qualifications of operators of commercial vessels; (3) medical examiner education; and (4) medical research. Professional mariners should include their United States mariner reference number for all credentials currently or previously held. Health-care professionals should include information on relevant licensure, certification, or training.

Prohibition: Please be aware, that in accordance with 46 U.S.C. 15109 (f)(5)(A), a Federal employee may not be appointed as a member of this Committee.

In order for the Department, to fully leverage broad-ranging experience and education, the National Merchant Mariner Medical Advisory Committee must be diverse with regard to professional and technical expertise. The Department is committed to pursuing opportunities, consistent with applicable law, to compose a committee that reflects the diversity of the Nation's people.

The U.S. Coast Guard will not consider incomplete or late applications.

Privacy Act Statement

Purpose: To obtain qualified applicants to fill twelve (12) vacancies on the National Merchant Mariner Medical Advisory Committee. When you apply for appointment to the DHS' National Merchant Mariner Medical Advisory Committee, DHS collects your name, contact information, and any other personal information that you submit in conjunction with your application. DHS will use this information to evaluate your candidacy for Committee membership. If you are chosen to serve as a Committee member, your name will appear in publicly-available Committee documents, membership lists, and Committee reports.

Authorities: 14 U.S.C. 504; 46 U.S.C. 15104 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure To Provide Information: Furnishing this information is voluntary. However, failure to furnish the requested information may result in your application not being considered for the Committee.

Dated: July 30, 2024.
Jeffrey G. Lantz,
Director of Commercial Regulations and Standards.

[FR Doc. 2024-17159 Filed 8-2-24; 8:45 am]

BILLING CODE 9110-04-P